NUCLEAR REGULATORY COMMISSION

[Docket Nos. 50-250 and 50-251; NRC-2022-0172]

Florida Power & Light Company; Turkey Point Nuclear Generating Unit Nos. 3 and 4; Final Site-Specific Environmental Impact Statement

AGENCY: Nuclear Regulatory Commission.

ACTION: Notice; issuance.

SUMMARY: The U.S. Nuclear Regulatory Commission (NRC) is issuing final site-specific environmental impact statement (EIS) NUREG-1437, Supplement 5a, Second Renewal, “Site-Specific Environmental Impact Statement for License Renewal of Nuclear Plants Regarding Subsequent License Renewal for Turkey Point Nuclear Generating Unit Nos. 3 and 4, Final Report.” This EIS is related to the subsequent renewal of Renewed Facility Operating License Nos. DPR-31 and DPR-41 for an additional 20 years of operation for Turkey Point Nuclear Generating Unit Nos. 3 and 4 (Turkey Point). Turkey Point is located in Homestead, Florida, approximately 25 miles south-southwest of Miami. Possible alternatives to the proposed action of subsequent license renewal for Turkey Point include the no-action alternative and reasonable replacement power and alternative cooling water system alternatives.

DATES: NUREG-1437, Supplement 5a, Second Renewal, is available as of March 29, 2024.

ADDRESSES: Please refer to Docket ID NRC-2022-0172 when contacting the NRC about the availability of information regarding this document. You may obtain publicly available information related to this document using any of the following methods:

• Federal Rulemaking website: Go to https://www.regulations.gov and search for Docket ID NRC-2022-0172. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 5a, Second Renewal, is available in ADAMS under Accession No. ML24087A061.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: NUREG-1437, Supplement 5a, Second Renewal, will be available for public inspection at the Naranja Branch Library, 14850 SW 280th Street, Homestead, Florida 33032.

FOR FURTHER INFORMATION CONTACT: Lance J. Rakovan, Office of Nuclear Material Safety and Safeguards, U.S. Nuclear Regulatory Commission, Washington, DC 20555-0001; telephone: 301-415-2589; email: Lance.Rakovan@nrc.gov.

SUPPLEMENTARY INFORMATION:

I. Background

In accordance with section 51.118 of title 10 of the Code of Federal Regulations (10 CFR), the NRC is making available for public inspection NUREG-1437, Supplement 5a, Second Renewal, regarding the subsequent renewal of Florida Power & Light Company's (FPL) Renewed Facility Operating License Nos. DPR-31 and DPR-41 for an additional 20 years of operation for Turkey Point. A notice of availability of the draft of NUREG-1437, Supplement 5a, Second Renewal, was published in the Federal Register on September 8, 2023, by the NRC (88 FR 62110) and by the Environmental Protection Agency (88 FR 62078). The public comment period on the draft EIS ended on November 7, 2023, and the comments received are addressed in the final EIS.

II. Discussion

As discussed in Chapter 3 of NUREG-1437, Supplement 5a, Second Renewal, the NRC staff's recommendation is that the adverse environmental impacts of subsequent license renewal for Turkey Point for an additional 20 years beyond the expiration dates of the initial renewed licenses are not so great that preserving the option of subsequent license renewal for energy-planning decisionmakers would be unreasonable. This recommendation is based on: (1) FPL's environmental report, as supplemented; (2) the NRC staff's consultations with Federal, State, Tribal, and local government agencies; (3) the NRC staff's independent environmental review, which is documented in NUREG-1437, Supplement 5a, Second Renewal; and (4) the NRC staff's consideration of public comments.

Dated: April 1, 2024.
For the Nuclear Regulatory Commission.
John M. Moses,
Deputy Director, Division of Rulemaking, Environmental, and Financial Support, Office of Nuclear Material Safety and Safeguards.

[FR Doc. 2024-07152 Filed 4-4-24; 8:45 am]

BILLING CODE 7590-01-P